DEPARTMENT OF HOMELAND SECURITY

U.S. Customs and Border Protection

Increase in the NEXUS Application Fee and Change in the NEXUS Application Fee for Certain Minors

AGENCY: U.S. Customs and Border Protection, Department of Homeland Security.

ACTION: General notice.

SUMMARY: In this document, CBP is announcing an increase in the application fee for the NEXUS program and a change in the NEXUS application fee for certain minors. This change to the NEXUS program is being made simultaneously with changes to the Global Entry and Secure Electronic Network for Travelers Rapid Inspection (SENTRI) programs in order to harmonize the fees, application procedures and standard for exempting minors from payment of the application fee. CBP is simultaneously issuing a separate final rule updating the Global Entry and SENTRI regulations to be consistent with the changes herein.

DATES: New applicants and participants applying for renewal, including specified minors under the age of 18, who submit applications to the NEXUS program on or after October 1, 2024, must pay a $120 non-refundable application fee at the time of the application submission.

FOR FURTHER INFORMATION CONTACT: Rafael E. Henry, Branch Chief, Office of Field Operations, (202) 344-3251, Rafael.E.Henry@cbp.dhs.gov.

SUPPLEMENTARY INFORMATION:

Background

U.S. Customs and Border Protection (CBP) operates several trusted traveler programs at land, sea, and air ports of entry that allow dedicated processing for entry into the United States for certain pre-approved, low-risk travelers. Three of those programs are the Secure Electronic Network for Travelers Rapid Inspection (SENTRI) program, the Global Entry program, and the NEXUS program.¹ Each of these three programs originally had different application fees and a different policy as to whether minors ² were charged an application fee. CBP is now harmonizing the application fees and establishing a uniform standard for exempting minors from payment of the application fee. In this document, CBP is announcing that, to harmonize the NEXUS application fee with the Global Entry and SENTRI application fees, the NEXUS application fee will be raised to $120 and certain minors, who are currently exempt from the payment of the application fee, will be required to pay the application fee. CBP is simultaneously issuing a separate final rule updating the Global Entry and SENTRI regulations to make those provisions consistent with the changes herein.³

¹ The Free and Secure Trade (FAST) program is another CBP trusted traveler program that allows pre-approved commercial truck drivers dedicated processing at select commercial ports of entry at the northern and southern land borders. This program has different vetting standards, is offered to a different type of traveler, and does not have the same benefits as the Global Entry, SENTRI, and NEXUS programs. TSA PreCheck is a Department of Homeland Security (DHS) trusted traveler program administered by the Transportation Security Administration (TSA).

² For the purposes of this notice, we use the term “minor” to mean a person who is under the age of 18. The choice of this age range for a minor is based on the standard age of adulthood in the United States (18) as well as the age previously used and currently agreed to by Canada concerning exemption of minors from payment of the NEXUS fee.

³ CBP published a notice of proposed rulemaking in the Federal Register on September 9, 2020, proposing the changes to harmonize the Global Entry and SENTRI application fees and fees for minors consistent with the changes herein. See 85 FR 55597. After review of comments received on that NPRM, CBP is publishing a final rule implementing those proposed changes concurrent with this notice.

Overview of the NEXUS Program

The NEXUS program is a joint trusted traveler program between U.S. Customs and Border Protection (CBP) and the Canada Border Services Agency (CBSA) that allows certain pre-approved, low-risk travelers dedicated processing by both U.S. and Canadian officials at designated lanes at certain northern land border ports of entry, at automated kiosks at Canadian preclearance airports, and at NEXUS marine reporting locations.

An individual is eligible to apply for the NEXUS program if he or she is a citizen or lawful permanent resident of the United States or Canada or is a qualified Mexican national.⁴ Reasons why an applicant may not qualify for participation include, but are not limited to:

⁴ Pursuant to a Memorandum of Understanding between the Department of Public Safety of Canada, the Secretariat of Governance of the United Mexican States, and the U.S. Department of Homeland Security, Mexican nationals who are members of the Mexican Trusted Traveler Program “Viajero Confiable” are eligible to apply for NEXUS membership. CBP and CBSA will continue to make all eligibility and membership determinations.

• The applicant is inadmissible to the United States or Canada under applicable immigration laws;

• The applicant provides false or incomplete information on their application;

• The applicant has been convicted of a criminal offense in any country;

• The applicant has been found in violation of customs, agriculture, or immigration law; or

• The applicant fails to meet other requirements of the NEXUS program.

All applicants must undergo a thorough background check against criminal, law enforcement, customs, immigration, and terrorist databases by U.S. and Canadian authorities, a 10-fingerprint law enforcement check, and a personal interview with both a CBP officer and a CBSA officer. Minors are eligible to apply to the NEXUS program with the consent of a parent or legal guardian. Such minors are subject to the same background checks and interview process as all other applicants. Additionally, for minors, a parent or legal guardian must be present at the time of the interview with CBP and CBSA. To be accepted into the NEXUS program, both the United States and Canada must approve the person's application.

Individuals can apply to the NEXUS program via the Trusted Traveler Program Systems (TTP System) website at https://ttp.cbp.dhs.gov (formerly Global Online Enrollment System (GOES): website, https://goes-app.cbp.dhs.gov).

Prior to the effective date of this notice, a non-refundable $50 application fee was required with the submission of the application and minors were exempt from payment of an application fee. Pursuant to this notice and as described in further detail below, the fee for NEXUS will be raised to $120 for adult applicants and certain minors. A minor applying concurrently with a parent or legal guardian or whose parent or legal guardian is already a NEXUS member will be exempt from payment of the fee. If applicable, the applicant must pay the non-refundable fee through the TTP System at the time he or she submits the application.

After the applicant completes the application and submits the application fee, the TTP System will send an automatic notification to the applicant regarding whether they are conditionally approved or denied acceptance into the NEXUS program. If the applicant is conditionally accepted into the program, CBP will notify them via the TTP System that they are to schedule a personal interview with both CBP and CBSA. The information regarding the interview process and locations will be included with the notification to schedule an interview and is provided on: https://www.cbp.gov/travel/trusted-traveler-programs/nexus/nexus-enrollment-centers.

If either the United States or Canada denies an application, the applicant cannot be accepted into the NEXUS program, as membership requires approval by both countries. If CBP denies an application or terminates a participant's membership, there are two methods of redress available. These two methods of redress are: initiating the redress process through the DHS Traveler Redress Inquiry Program (DHS TRIP) at www.dhs.gov/trip or contacting the CBP Trusted Traveler Ombudsman via a reconsideration request filed through the TTP System at https://ttp.cbp.dhs.gov. If CBSA denies an application or terminates a participant's membership, the applicant or member will be directed to contact CBSA regarding the denial or termination.

Once an individual is accepted into the NEXUS program, CBP will issue a NEXUS Western Hemisphere Travel Initiative (WHTI)-approved ⁵ Radio Frequency Identification (RFID) card. CBP will charge a $25 fee for any replacement RFID card, for example if the card is lost or stolen or the member needs to update their name. When a replacement card is requested, CBP will deactivate the original RFID card and the original card will no longer function. This NEXUS RFID card allows a participant to receive dedicated processing at NEXUS designated lanes at certain northern border land ports of entry, at automated kiosks at Canadian preclearance airports, and at NEXUS marine reporting locations in the United States and Canada. As a benefit of NEXUS membership, a NEXUS participant may also utilize Global Entry processes for dedicated CBP processing at participating airports, as well as SENTRI lanes subject to certain limitations as described further below.

⁵ WHTI implements a statutory mandate to require all travelers to present a passport or other document that denotes identity and citizenship when entering the United States. See Intelligence Reform and Terrorism Prevention Act of 2004, Public Law 108-458, section 7209, 118 Stat. 3638, 3823, as amended. The goal of WHTI is to facilitate entry for U.S. citizens and legitimate foreign visitors while strengthening U.S. border security by providing standardized documentation that enables CBP to identify a traveler quickly and reliably. WHTI-compliant documents include valid U.S. passports, passport cards, trusted traveler program cards, and others.

NEXUS membership is valid for five years. During this five-year membership period, CBP continually vets NEXUS participants through law enforcement databases to ensure that they comply with the program requirements. At the end of the five-year membership period, NEXUS members may apply to renew their memberships by submitting a new application and non-refundable application fee.

Additional information regarding the NEXUS program may be found at https://www.cbp.gov/travel/trusted-traveler-programs/nexus.

Harmonizing the CBP Trusted Traveler Program Fees

The NEXUS program is just one of several voluntary trusted traveler programs that provide dedicated processing for pre-approved, low-risk travelers. The Global Entry program allows pre-approved, low-risk travelers dedicated CBP processing at designated airports. The SENTRI program allows dedicated processing at specified land border ports along the United States-Mexico border for pre-approved, low-risk travelers. When the NEXUS, Global Entry and SENTRI programs were established, each had a separate application process. The information about participants of each program were contained in separate databases, and each program provided its participants with different benefits. Each program was intended to be used in different geographic regions for different modes of transportation. The SENTRI program was created for travelers at the U.S.-Mexico border traveling by vehicle. The NEXUS program was established for travelers frequently traveling between the United States and Canada. The Global Entry program was intended to provide dedicated CBP processing into the United States for frequent international air travelers. Due to these differences, there were specific reasons for the programs to have different costs, procedures, and fees. However, with the expansion of the Global Entry program, the success of all three programs, and advances in technology, CBP has since created a uniform application, a centralized database, and has allowed certain shared benefits across the Global Entry, SENTRI and NEXUS programs.

The Global Entry, SENTRI, and NEXUS programs now use the same application on the TTP System website located at https://ttp.cbp.dhs.gov. An applicant to any of the programs can indicate the trusted traveler programs to which they wish to apply. CBP officers perform the same application review and vetting process on all NEXUS, SENTRI and Global Entry applicants. All of these applicants must undergo a personal interview and must submit fingerprints and/or photographic biometrics before acceptance into any of the programs and are notified of their acceptance or denial via the TTP System. Applicants or participants can contest their denial or removal from the NEXUS, Global Entry or SENTRI programs through the same redress methods, i.e., via DHS TRIP or submitting a reconsideration request to the CBP Trusted Traveler Ombudsman. Membership in all three CBP trusted traveler programs is valid for a five-year membership period. During this five-year membership period and any subsequent renewal period, CBP performs the same continuous vetting on all the participants.

In recent years, certain benefits of the programs have been extended to participants of the other programs. For example, participants in the NEXUS program and certain participants in the SENTRI program are permitted to use the Global Entry processing as part of their membership in those CBP trusted traveler programs.⁶ Global Entry participants with Global Entry RFID cards may utilize the SENTRI lanes ⁷ and enter the United States via NEXUS lanes, and NEXUS marine reporting locations. SENTRI participants may enter the United States via NEXUS lanes, and NEXUS marine reporting locations. NEXUS participants may utilize the SENTRI lanes.⁸ Despite these commonalities, each program has retained its own fees and has different policies regarding whether a minor must pay the application fee. CBP is now harmonizing the application fees and establishing a uniform standard for when minors are exempt from payment of the application fee.

⁶ See Utilization of Global Entry processing by NEXUS and SENTRI Participants Federal Register notice, for further information (75 FR 82202, December 29, 2010). As a benefit of SENTRI membership, a SENTRI participant who is a U.S. citizen or a U.S. lawful permanent resident may utilize the Global Entry processing. Mexican nationals who are SENTRI participants may only utilize the Global Entry processing upon successful completion of a thorough risk assessment by the Mexican Government.

⁷ A Global Entry participant with an RFID card may travel as a passenger in a vehicle using the SENTRI lanes. However, a Global Entry participant may not drive a vehicle into the United States using the SENTRI lanes unless that vehicle has been approved by CBP for use in the SENTRI lanes. See https://www.cbp.gov/global-entry/faqs for more information.

⁸ A NEXUS participant may travel as a passenger in a vehicle utilizing the SENTRI lanes. However, a NEXUS participant may not drive a vehicle into the United States using the SENTRI lanes unless that vehicle has been approved by CBP for use in the SENTRI lanes. See https://help.cbp.gov/s/article/Article-227?language=en_US#:~:text=They%20can%20also%20use%20their,not%20for%20the%20NEXUS%20lanes for more information.

Increasing the NEXUS Application Fee

CBP has performed a fee study entitled “CBP Trusted Traveler Programs Fee Study” to determine the amount of the fee that is necessary to recover the costs associated with membership in the Global Entry, SENTRI and NEXUS programs. CBP determined that a uniform fee of $120 is appropriate and necessary to recover a reasonable portion of these costs.⁹ After an examination of CBP's fee study and a series of joint discussions, CBP and CBSA have mutually agreed to increase the NEXUS application fee to $120. The $120 application fee will apply to new applicants and to those members renewing their membership in the NEXUS program. This non-refundable application fee will continue to be paid to CBP at the time of the application submission via the TTP System.

⁹ Although the $120 fee is the amount necessary to recover a reasonable portion of the costs associated with the programs, CBP will not recover all of its costs for the NEXUS program. The NEXUS fee is split between the United States and Canada. As a result, the United States will only receive part of the revenue necessary to recover its costs for the NEXUS program. Please see the fee study entitled “CBP Trusted Traveler Programs Fee Study” for details. The fee study can be accessed at https://www.regulations.assumgov/document/USCBP-2020-0035-0038.

Changing the NEXUS Application Fee for Certain Minors

Prior to the effective date of this notice, the Global Entry, SENTRI and NEXUS programs were not aligned with respect to whether minors were charged an application fee. The SENTRI program had a complex family option plan and the Global Entry program charged minors the full application fee. Meanwhile, the NEXUS program exempted all minors from payment of the application fee. This disparity resulted in families choosing a program based on financial considerations instead of choosing a program based on the features and benefits of the program. To eliminate this disparity and to reflect the costs to CBP to operate these programs, CBP is now harmonizing the fees, including ensuring that minors applying to the various programs are treated in the same manner and pay the same fee regardless of the program to which they apply.

In this document, CBP is announcing that minors who apply to the NEXUS program or apply for renewal will be exempt from payment of the application fee if the minor's parent or legal guardian applies concurrently with the minor, or if the parent or legal guardian is an existing member of the NEXUS program. If the minor's parent or legal guardian is already a member, the minor will be required to enter the parent or legal guardian's name and trusted traveler number to allow CBP to verify this information. If a minor applies to the NEXUS program without a concurrent parent or legal guardian application, and if the applicant's parent or legal guardian is not already a NEXUS participant, the minor will be charged the full application fee of $120. This is a change from the previous policy, as all minors were exempt from the payment of the NEXUS application fee regardless of their parent or legal guardian's status prior to the effective date of this notice. After joint discussions and an examination of CBP's fee study, CBP and CBSA have mutually concurred with the change in the NEXUS application fee for the specified minors.

All minors applying to the NEXUS program must have the consent of a parent or legal guardian to be eligible to participate, must complete the application, and are subject to the requisite vetting, including the collection of fingerprints. For minors, a parent or legal guardian must be present at the time of the interview with a CBP and CBSA officer.¹⁰

¹⁰ CBSA requires that all custodial parents or legal guardians be present at the time of the interview. For minors with more than one custodial parent or legal guardian, if only one parent or legal guardian is present at the interview, any other custodial parents or guardians must provide a signed letter of consent. See https://www.cbsa-asfc.gc.ca/services/travel-voyage/prog/nexus/nexus-5-eng.html#a1. CBP requires one custodial parent or legal guardian to be present at the time of the interview.

All other aspects of the NEXUS program remain in effect.

Authority for Announcing Changes to the NEXUS Program Through a Federal Register Notice

To harmonize the Global Entry and SENTRI fees with the NEXUS fee, CBP is simultaneously publishing a separate final rule that changes the application fee for the Global Entry and SENTRI programs to $120 and creates a unified application fee for minors.

CBP is announcing the changes to the NEXUS fee through this Federal Register notice, rather than through rulemaking, pursuant to its statutory authority. As provided in 8 U.S.C. 1753, U.S. border inspection agencies acting jointly and in cooperation with Canada, may conduct joint U.S.-Canada inspection projects on the border. The NEXUS program is a joint U.S.-Canada trusted traveler program established in 2002 as part of the U.S.-Canada Shared Border Accord. Pursuant to 8 U.S.C. 1753(c), fees for services and forms relating to such joint U.S.-Canadian projects shall be published as a notice in the Federal Register. The statute further provides that the Administrative Procedure Act (5 U.S.C. 553) and the Paperwork Reduction Act (44 U.S.C. 3501-3520) shall not apply to the fee setting for services and other administrative requirements of such joint U.S.-Canadian projects.

Signing Authority

Troy A. Miller, the Senior Official Performing the Duties of the Commissioner of U.S. Customs and Border Protection, having reviewed and approved this document, is delegating the authority to electronically sign this document to Robert F. Altneu, who is the Director of the Regulations and Disclosure Law Division for CBP, for purposes of publication in the Federal Register.

Robert F. Altneu,
Director, Regulations & Disclosure Law Division, Regulations & Rulings.

[FR Doc. 2024-06852 Filed 4-1-24; 8:45 am]

BILLING CODE 9111-14-P